DEPARTMENT OF LABOR

Employment and Training Administration

Investigations Regarding Certifications of Eligibility To Apply for Worker Adjustment Assistance and Alternative Trade Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than March 21, 2011.

Interested persons are invited to submit written comments regarding the subject matter of the investigations to the Director, Office of Trade Adjustment Assistance, at the address shown below, not later than March 21, 2011.

The petitions filed in this case are available for inspection at the Office of the Director, Office of Trade Adjustment Assistance, Employment and Training Administration, U.S. Department of Labor, Room N-5428, 200 Constitution Avenue, NW., Washington, DC 20210.

Signed at Washington, DC this 18th day of February 2011.
Elliott S. Kushner,
Certifying Officer, Office of Trade Adjustment Assistance.

Appendix
[74 TAA petitions instituted between 2/14/11 and 2/18/11]
TA-W | Subject firm (petitioners) | Location | Date of institution | Date of petition
75245 | Biomerieux, Inc. (Company) | Wilsonville, OR | 02/14/11 | 02/11/11.
75246 | Deluxe Laboratories (State/One-Stop) | Hollywood, CA | 02/14/11 | 02/11/11.
75246A | Deluxe Laboratories (State/One-Stop) | Burbank, CA | 02/14/11 | 02/11/11.
75247 | Jones Apparel Group (Workers) | El Paso, TX | 02/14/11 | 02/11/11.
75248 | Groupe SEB (Union) | Eighty Four, PA | 02/14/11 | 02/10/11.
75249 | JC Penney (State/One-Stop) | Rio Rancho, NM | 02/14/11 | 02/11/11.
75250 | Burner Systems International (Company) | Chattanooga, TN | 02/14/11 | 02/11/11.
75251 | JPMorgan Chase (State/One-Stop) | Fort Worth, TX | 02/14/11 | 02/11/11.
75252 | Goodyear Tire and Rubber Company (Union) | Union City, TN | 02/14/11 | 02/10/11.
75253 | Hewlett Packard (State/One-Stop) | Omaha, NE | 02/14/11 | 02/11/11.
75254 | Cima Labs (State/One-Stop) | Eden Prairie, MN | 02/14/11 | 02/11/11.
75255 | Cooper Standard Automotive, Inc. (Union) | Bowling Green, OH | 02/14/11 | 02/10/11.
75256 | Cooper Standard (Workers) | New Lexington, OH | 02/14/11 | 02/02/11.
75257 | Walsh Trucking (State/One-Stop) | Dillard, OR | 02/14/11 | 02/11/11.
75258 | Kaz, Inc. (Company) | Hudson, NY | 02/14/11 | 02/11/11.
75259 | Four Star Plastics (Company) | Richmond, KY | 02/14/11 | 02/11/11.
75260 | Pittsburgh Corning Corporation (Workers) | Port Allegany, PA | 02/14/11 | 02/10/11.
75261 | Highmark West Virginia, Inc. including employees who work from home in WV (Company) | Parkersburg, WV | 02/14/11 | 02/11/11.
75262 | Highmark, including locations in Pittsburgh, Erie, Johnstown & Wkrs from home (Company) | Camp Hill, PA | 02/14/11 | 02/11/11.
75263 | Mac Steel Service Centers USA (Workers) | Liverpool, NY | 02/14/11 | 02/11/11.
75264 | City of Firsts Community F.C. (Union) | Kokomo, IN | 02/14/11 | 02/11/11.
75265 | Domtar Paper Company (Company) | Langhorne, PA | 02/14/11 | 02/11/11.
75266 | Maine Bucket Company (State/One-Stop) | Lewiston, ME | 02/14/11 | 02/11/11.
75267 | AK Steel Corporation (Ashland Works Coke Plant) (Union) | Ashland, KY | 02/14/11 | 02/11/11.
75268 | Nestle Nutrition/Health Care Nutrition (State/One-Stop) | St. Louis Park, MN | 02/14/11 | 02/11/11.
75269 | Evergreen Solar, Inc. (Company) | Devens, MA | 02/14/11 | 02/11/11.
75270 | Sterling Life Insurance (State/One-Stop) | Bellingham, WA | 02/14/11 | 02/11/11.
75271 | Broyhill Furniture Industries, Inc., Corporate Office (Company) | Lenoir, NC | 02/14/11 | 02/11/11.
75272 | Evergreen Solar, Inc. (Company) | Marlboro, MA | 02/14/11 | 02/11/11.
75273 | Harsco Rail (State/One-Stop) | Fairmont, MN | 02/15/11 | 02/14/11.
75274 | Abbott Laboratories (Company) | Abbott Park, IL | 02/15/11 | 02/14/11.
75275 | Anthem Blue Cross, A Wellpoint, Inc. Company (Company) | Woodland Hills, CA | 02/15/11 | 02/14/11.
75276 | Associated Tube USA (Company) | Elizabethtown, KY | 02/15/11 | 02/14/11.
75277 | Steelcase, Inc. (State/One-Stop) | Caledonia, MI | 02/15/11 | 02/01/11.
75278 | Wellman Dynamics (State/One-Stop) | Plymouth, MN | 02/15/11 | 02/14/11.
75279 | Hewlett Packard (Workers) | Roseville, CA | 02/15/11 | 02/13/11.
75280 | YKK Snap Fasteners America, Inc. (State/One-Stop) | Lawrenceburg, KY | 02/15/11 | 02/14/11.
75281 | South Central Service (Workers) | Berea, KY | 02/15/11 | 02/14/11.
75282 | I.C. System (State/One-Stop) | Mason City, IA | 02/15/11 | 02/14/11.
75283 | HP Enterprise Services, LLC (State/One-Stop) | Cupertino, CA | 02/15/11 | 02/11/11.
75284 | CGI (State/One-Stop) | Andover, MA | 02/15/11 | 02/14/11.
75285 | VisLink, Inc. (Company) | Vista, CA | 02/15/11 | 02/14/11.
75286 | Moulton Logistics Management (State/One-Stop) | Van Nuys, CA | 02/15/11 | 02/11/11.
75287 | Anchorage Daily News (State/One-Stop) | Anchorage, AK | 02/15/11 | 02/14/11.
75288 | AT&T (Workers) | Old Bridge, NJ | 02/15/11 | 02/11/11.
75289 | American Food and Vending (Union) | Union City, TN | 02/15/11 | 02/14/11.
75290 | CSC (Company) | Schaumburg, IL | 02/15/11 | 02/14/11.
75291 | CCI Systems, Inc. (Workers) | Iron Mountain, MI | 02/15/11 | 02/14/11.
75292 | ConocoPhillips Company (Company) | Nikiski, AK | 02/15/11 | 02/14/11.
75293 | Carauster Corporation (Workers) | Austell, GA | 02/15/11 | 02/14/11.
75294 | Marathon Oil (State/One-Stop) | Anchorage, AK | 02/15/11 | 02/14/11.
75295 | Katahdin Paper Company, LLC (Company) | East Millinocket, ME | 02/15/11 | 02/14/11.
75296 | S4Carlisle Publishing Services (Company) | Dubuque, IA | 02/15/11 | 02/14/11.
75297 | ESA Laboratories (State/One-Stop) | Chelmsford, MA | 02/15/11 | 02/14/11.
75298 | Solix, CMR, LLC (State/One-Stop) | Charleston, IL | 02/15/11 | 02/14/11.
75299 | Thomson Reuters (State/One-Stop) | Forth Worth, TX | 02/15/11 | 02/14/11.
75300 | Key Plastics, LLC (Company) | Hartford City, IN | 02/15/11 | 02/14/11.
75301 | Springs Global US, Inc. (Company) | Fort Mill, SC | 02/15/11 | 02/14/11.
75302 | Udelhoven (State/One-Stop) | Anchorage, AK | 02/15/11 | 02/14/11.
75303 | Gildan (State/One-Stop) | Hopkinsville, KY | 02/15/11 | 02/14/11.
75304 | Meritor Heavy Vehicle Systems (Workers) | Heath, OH | 02/15/11 | 01/27/11.
75305 | UDR, Inc. (Workers) | Glen Allen, VA | 02/15/11 | 02/09/11.
75306 | Elmet Technologies (State/One-Stop) | Lewiston, ME | 02/15/11 | 02/14/11.
75307 | BSH Home Appliances, Inc. (Workers) | New Bern, NC | 02/15/11 | 02/14/11.
75308 | C.R. Bard, Inc. (State/One-Stop) | Queensbury, NY | 02/15/11 | 02/14/11.
75309 | Dallas Group of America, Inc. (Company) | Jeffersonville, IN | 02/15/11 | 02/14/11.
75310 | Benetec, Inc. (State/One-Stop) | Irving, TX | 02/15/11 | 02/14/11.
75311 | Agilent Technologies, Inc. (State/One-Stop) | Loveland, CO | 02/15/11 | 02/14/11.
75312 | RJ Reynolds Tobacco Company (State/One-Stop) | Winston Salem, NC | 02/16/11 | 02/08/11.
75313 | Vodafone Americas (Company) | Walnut Creek, CA | 02/16/11 | 02/04/11.
80001 | Mercer (US) Inc. (Workers) | Chicago, IL | 02/18/11 | 02/15/11.
80002 | Babcock & Wilcox Power Generation Group, Inc. (Workers) | Barberton, OH | 02/18/11 | 02/15/11.
80003 | Electronic Arts (State/One-Stop) | Playa Vista, CA | 02/18/11 | 02/15/11.
80004 | Sensata Technologies (Company) | Freeport, IL | 02/18/11 | 02/15/11.

[FR Doc. 2011-5474 Filed 3-9-11; 8:45 am]

BILLING CODE 4510-FN-P